OFFICE OF PERSONNEL MANAGEMENT

Submission for Review: Life Insurance Election, Standard Form (SF) 2817

AGENCY: Office of Personnel Management.

ACTION: 60-Day Notice and request for comments.

SUMMARY: The Federal Employee Insurance Operations (FEIO), Healthcare & Insurance, Office of Personnel Management (OPM) offers the general public and other federal agencies the opportunity to comment on an extension without change of a currently approved information collection (ICR), SF 2817, Life Insurance Election.

DATES: Comments are encouraged and will be accepted until July 25, 2017.

ADDRESSES: Interested persons are invited to submit written comments on the proposed information collection to the Healthcare & Insurance/FEIO, U.S. Office of Personnel Management, 1900 E Street NW., Washington, DC 20415, Attention: Dave Johnston, Room 3459-AK, or sent via electronic mail to dave.johnston@opm.gov.

FOR FURTHER INFORMATION CONTACT: A copy of this ICR with applicable supporting documentation, may be obtained by contacting the Retirement Services Publications Team, Office of Personnel Management, 1900 E Street NW., Room 3316-L, Washington, DC 20415, Attention: Cyrus S. Benson, or sent via electronic mail to Cyrus.Benson@opm.gov or faxed to (202) 606-0910.

SUPPLEMENTARY INFORMATION: As required by the Paperwork Reduction Act of 1995 (Pub. L. 104-13, 44 U.S.C. chapter 35) as amended by the Clinger-Cohen Act (Pub. L. 104-106), OPM is soliciting comments for this collection (OMB No. 3206-0230). The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Standard Form 2817 is used by federal employees and assignees (those who have acquired control of an employee/annuitant's coverage through an assignment or “transfer” of the ownership of the life insurance). Clearance of this form for use by active federal employees is not required according to the Paperwork Reduction Act (Pub. L. 98-615). Therefore, only the use of this form by assignees, i.e. members of the public, is subject to the Paperwork Reduction Act.

Analysis:

Agency: Federal Employee Insurance Operations, Healthcare & Insurance, Office of Personnel Management.

Title: Life Insurance Election.

OMB Number: 3206-0230.

Frequency: On occasion.

Affected Public: Individuals or Households.

Number of Respondents: 150.

Estimated Time per Respondent: 15 minutes.

Total Burden Hours: 38 hours.

U.S. Office of Personnel Management.
Kathleen M. McGettigan,
Acting Director.

[FR Doc. 2017-10963 Filed 5-25-17; 8:45 am]

BILLING CODE 6325-38-P